DEPARTMENT OF COMMERCE

International Trade Administration

Clarification of the 2009 Calculation of Expected Non-Market Economy Wages

AGENCY: Import Administration, International Trade Administration, Department of Commerce.

ACTION: Clarification of the effective date of 2009 expected non-market economy wage calculation.

SUMMARY: On December 8, 2009, the Department of Commerce (“Department”) published the final calculation of the 2009 expected non-market economy (“NME”) wages. See 2009 Calculation of Expected Non-Market Economy Wages, 74 FR 65092 (December 9, 2009) (“Final 2009 Notice”). In the Final 2009 Notice, the Department stated that the final wage rate would be applied to all antidumping proceedings for which the Department's final decision is due after the publication of the notice. The Department hereby clarifies that it will apply this wage rate to final determinations subsequent to the publication of the Final 2009 Notice in antidumping proceedings for which the Department has not yet reached the preliminary results. The Final 2009 Notice remains in effect in all other respects.

DATES: These expected NME wage rates have been finalized in the Final 2009 Notice and will be applied to all antidumping proceeding final determinations subsequent to December 8, 2009, for which the Department has not yet reached the preliminary results.

FOR FURTHER INFORMATION CONTACT: Bobby Wong, International Trade Analyst, Operations Office IX, Import Administration, U.S. Department of Commerce, 14th Street and Constitution Avenue, NW., Washington, DC 20230; telephone: (202) 482-0409.

RESULTS: The final results and underlying data for the 2009 calculation have been posted on the Import Administration Web site at (http://ia.ita.doc.gov).

Dated: December 22, 2009.
Ronald K. Lorentzen,
Deputy Assistant Secretary for Import Administration.

[FR Doc. E9-31024 Filed 12-29-09; 8:45 am]

BILLING CODE 3510-DS-P